OFFICE OF PERSONNEL MANAGEMENT

5 CFR Part 532

[Docket ID: OPM-2023-0018]

RIN 3206-AO61

Prevailing Rate Systems; Redefinition of the Northeastern Arizona and Utah Appropriated Fund Federal Wage System Wage Areas

AGENCY: Office of Personnel Management.

ACTION: Proposed rule.

SUMMARY: The Office of Personnel Management (OPM) is issuing a proposed rule to redefine the geographic boundaries of the Northeastern Arizona and Utah appropriated fund Federal Wage System (FWS) wage areas for pay-setting purposes. The proposed rule would redefine Washington County, UT, and several National Parks portions of Garfield, Grand, Iron, San Juan, and Wayne Counties, UT, to the Northeastern Arizona wage area. This change is based on a recent consensus recommendation of the Federal Prevailing Rate Advisory Committee (FPRAC).

DATES: Send comments on or before September 14, 2023.

ADDRESSES: You may submit comments, identified by docket number and/or Regulatory Information Number (RIN) and title, by the following method:

• Federal Rulemaking Portal: https://www.regulations.gov. Follow the instructions for submitting comments.

All submissions received must include the agency name and docket number or RIN for this document. The general policy for comments and other submissions from members of the public is to make these submissions available for public viewing at https://www.regulations.gov as they are received without change, including any personal identifiers or contact information.

FOR FURTHER INFORMATION CONTACT: Ana Paunoiu, by telephone at (202) 606-2858 or by email at pay-leave-policy@opm.gov.

SUPPLEMENTARY INFORMATION: OPM is proposing a rule to redefine the geographic boundaries of the Northeastern Arizona and Utah appropriated fund FWS wage areas. This proposed rule would redefine Washington County, UT; and the Bryce Canyon, Capitol Reef, and Canyonlands National Parks portions of Garfield County, UT; the Arches and Canyonlands National Parks portions of Grand County, UT; the Cedar Breaks National Monument and Zion National Park portions of Iron County, UT; the Canyonlands National Park portion of San Juan County, UT; and the Capitol Reef and Canyonlands National Parks portions of Wayne County from the Utah wage area to the Northeastern Arizona wage area. This change is based on a recent recommendation of FPRAC, the statutory national labor-management committee responsible for advising OPM on matters affecting the pay of FWS employees. From time to time, FPRAC reviews the boundaries of wage areas and provides OPM with recommendations for changes if the Committee finds that changes are warranted.

As provided by 5 CFR 532.211, this regulation allows consideration of the following criteria when defining wage area boundaries: distance, transportation facilities, and geographic features; commuting patterns; and similarities in overall population, employment, and the kinds and sizes of private industrial establishments.

Southern Utah has numerous National Parks, National Monuments, and National Recreation Areas, and National Park Service FWS employees often perform overlapping maintenance work at locations in the Northeastern Arizona wage area. FWS wage area definitions have long accommodated placing National Parks in single wage areas because of close organizational relationships between groups of employees with different official duty stations in the same park.

Washington County is currently defined to the Utah area of application. Our analysis of the regulatory criteria indicates that Washington County would be more appropriately defined as part of the Northeastern Arizona wage area. When measuring to cities, the distance criterion favors the Utah wage area. When measuring to host installations, the distance criterion favors the Northeastern Arizona wage area. Washington County has a similar distribution of surveyable employment to the Northeastern Arizona survey area. All other criteria are inconclusive. Although a standard review of regulatory criteria shows that some factors are indeterminate, distance to the host installations and overall population, total private sector employment, and kinds and sizes of private industrial establishments do favor the Northeastern Arizona wage area. Based on this analysis, we recommend that Washington County be redefined to the Northeastern Arizona wage area.

Garfield County is currently defined to the Utah area of application. Our analysis of the regulatory criteria indicates that Garfield County is appropriately defined as part of the Utah area of application. The distance criterion favors the Utah wage area more than the Northeastern Arizona wage area. All other criteria are inconclusive. However, since we are recommending that the Canyonlands National Park portion of San Juan County be redefined to the Northeastern Arizona wage area, and because we believe Bryce Canyon and Canyonlands National Park should not be split between the Northeastern Arizona and the Utah wage areas, we recommend that the portions of Garfield County occupied by Canyonlands and Bryce Canyon National Parks be part of the Northeastern Arizona wage area. We also believe that the Capitol Reef National Park portion of Garfield County should be redefined to the Northeastern Arizona wage area because of the close proximity to the Bryce Canyon and Canyonlands National Parks. This change would ensure equal pay treatment for FWS employees at Bryce Canyon, Capitol Reef, and Canyonlands National Parks are paid from the same wage schedule. The remaining portion of Garfield County would continue to be part of the Utah wage area. We believe the mixed nature of our regulatory analysis findings indicates that the remaining locations in Garfield County remain appropriately defined to the Utah wage area, with distance being the deciding factor.

Grand County is currently defined to the Utah area of application. Our analysis of the regulatory criteria indicates that Grand County is appropriately defined as part of the Utah area of application. When measuring to cities, the distance criterion favors the Utah wage area. When measuring to host installations, the distance criterion favors the Northeastern Arizona wage area. However, since we are recommending that the Canyonlands National Park portion of San Juan County be redefined to the Northeastern Arizona wage area, and because we believe Canyonlands National Park should not be split between the Northeastern Arizona and the Utah wage areas, we recommend that the portion of Grand County occupied by Canyonlands National Park be part of the Northeastern Arizona wage area. We also believe that the Arches National Park portion of Grand County should be redefined to the Northeastern Arizona wage area because of the close proximity to the Canyonlands National Park. This change would provide equal pay treatment for FWS employees at the two national parks. The remaining portion of Grand County would continue to be part of the Utah wage area. We believe the mixed nature of our regulatory analysis findings indicates that the remaining locations in Grand County remain appropriately defined to the Utah wage area, with distance being the deciding factor.

Iron County is currently defined to the Utah area of application. Our analysis of the regulatory criteria indicates that Iron County is appropriately defined as part of the Utah area of application. The distance criterion favors the Utah wage area more than the Northeastern Arizona wage area. Iron County has a similar distribution of surveyable employment to the Northeastern Arizona survey area. All other criteria are inconclusive. However, since we are recommending that Washington County be redefined to the Northeastern Arizona wage area, and because we believe Zion National Park should not be split between the Northeastern Arizona and the Utah wage areas, we recommend that the portion of Iron County occupied by Zion National Park be part of the Northeastern Arizona wage area. We also believe that the Cedar Breaks National Monument portion of Iron County should be redefined to the Northeastern Arizona wage area because of the close proximity to the Zion National Park. This change would provide equal pay treatment for FWS employees at the two national parks. We believe the mixed nature of our regulatory analysis findings indicates that the remaining locations in Iron County remain appropriately defined to the Utah wage area, with distance being the deciding factor.

San Juan County, except for the Canyonlands National Park portion, is currently defined to the Northeastern Arizona area of application. The distance and commuting patterns criteria for San Juan County favor the Northeastern Arizona wage area more than the Utah wage area. All other criteria are inconclusive. Since the remaining locations in San Juan County are already defined to the Northeastern Arizona wage area, we recommend that the portion of San Juan County occupied by Canyonlands National Park be part of the Northeastern Arizona wage area. An additional factor to weigh in the decision to redefine entire San Juan County the Northeastern Arizona wage area is that the American Federation of Government Employees believes that recent economic developments in the area indicate some linkage between San Juan County and the Northeastern Arizona wage area.

Wayne County is currently defined to the Utah area of application. Our analysis of the regulatory criteria indicates that Wayne County is appropriately defined as part of the Utah area of application. The distance and commuting patterns criteria for Wayne County favor the Utah wage area more than the Northeastern Arizona wage area. All other criteria are inconclusive. However, since we are recommending that the Canyonlands National Park portion of San Juan County be redefined to the Northeastern Arizona wage area, and because we believe Canyonlands National Park should not be split between the Northeastern Arizona and the Utah wage areas, we recommend that the portion of Wayne County occupied by Canyonlands National Park be part of the Northeastern Arizona wage area. We also believe that the Capitol Reef National Park portion of Wayne County should be redefined to the Northeastern Arizona wage area because of the close proximity to the Canyonlands National Park. This change would provide equal pay treatment for FWS employees at the two national parks. The remaining portion of Wayne County would continue to be part of the Utah wage area. We believe the mixed nature of our regulatory analysis findings indicates that the remaining locations in Wayne County remain appropriately defined to the Utah wage area, with distance and commuting being the deciding factors.

FPRAC, the national labor-management committee responsible for advising OPM on matters concerning the pay of FWS employees, recommended this change by consensus. This change would be effective on the first day of the first applicable pay period beginning on or after 30 days following publication of the final regulations.

Expected Impact of This Rule

Section 5343 of title 5, U.S. Code, provides OPM with the authority and responsibility to define the boundaries of FWS wage areas. Any changes in wage area boundaries can have the long-term effect of increasing pay for FWS employees in affected locations. OPM expects this rulemaking to impact approximately 100 FWS employees. Of the changes this rulemaking implements, the most significate change in terms of the number of impacted employees would be in Washington County, UT, where approximately 32 FWS employees would be affected. Considering the small number of employees affected, OPM does not anticipate this rulemaking will have a substantial impact on the local economies or a large impact in the local labor markets. However, OPM is requesting comment in this proposed rule regarding the impact. OPM will continue to study the implications of such impacts in this or future rules as needed, as this and future changes in wage area definitions may impact higher volumes of employees in geographical areas and could rise to the level of impacting local labor markets.

Regulatory Review

This action is not a “significant regulatory action” under the terms of Executive Order (E.O.) 12866 (58 FR 51735, October 4, 1993) and is therefore not subject to review under E.O. 12866 and 13563 (76 FR 3821, January 21, 2011).

Regulatory Flexibility Act

OPM certifies that this proposed rule will not have a significant economic impact on a substantial number of small entities.

Federalism

OPM has examined this proposed rule in accordance with Executive Order 13132, Federalism, and have determined that this proposed rule will not have any negative impact on the rights, roles and responsibilities of State, local, or tribal governments.

Civil Justice Reform

This regulation meets the applicable standard set forth in Executive Order 12988.

Unfunded Mandates Act of 1995

This proposed rule will not result in the expenditure by State, local, and tribal governments, in the aggregate, or by the private sector, of $100 million or more in any year and it will not significantly or uniquely affect small governments. Therefore, no actions were deemed necessary under the provisions of the Unfunded Mandates Reform Act of 1995.

Paperwork Reduction Act

This proposed rule does not impose any reporting or record-keeping requirements subject to the Paperwork Reduction Act.

List of Subjects in 5 CFR Part 532

Administrative practice and procedure, Freedom of information, Government employees, Reporting and recordkeeping requirements, Wages.

Office of Personnel Management.
Kayyonne Marston,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In appendix C to subpart B, amend the table by revising the wage area listings for the States of Arizona and Utah to read as follows:

Appendix C to Subpart B of Part 532—Appropriated Fund Wage and Survey Areas

Definitions of Wage Areas and Wage Area Survey Areas

* * * * *

ARIZONA

Northeastern Arizona

Survey Area

Arizona:

Apache

Coconino

Navajo

New Mexico:

McKinley

San Juan

Area of Application. Survey area plus:

Colorado:

Dolores

Gunnison (Only includes the Curecanti National Recreation Area portion)

La Plata

Montezuma

Montrose

Ouray

San Juan

San Miguel

Utah:

Garfield (Only includes the Bryce Canyon, Capitol Reef, and Canyonlands National Parks portions)

Grand (Only includes the Arches and Canyonlands National Parks portions)

Iron (Only includes the Cedar Breaks National Monument and Zion National Park portions)

Kane

San Juan

Washington

Wayne (Only includes the Capitol Reef and Canyonlands National Parks portions)

Phoenix

Survey Area

Arizona:

Gila

Maricopa

Area of Application. Survey area plus:

Arizona:

Pinal

Yavapai

Tucson

Survey Area

Arizona:

Pima

Area of Application. Survey area plus:

Arizona:

Cochise

Graham

Greenlee

Santa Cruz

* * * * *

UTAH

Utah

Survey Area

Utah:

Box Elder

Davis

Salt Lake

Tooele

Utah

Weber

Area of Application. Survey area plus:

Utah:

Beaver

Cache

Carbon

Daggett

Duchesne

Emery

Garfield (Does not include the Bryce Canyon, Capitol Reef, and Canyonlands National Parks portions)

Grand (Does not include the Arches and Canyonlands National Parks portions)

Iron (Does not include the Cedar Breaks National Monument and Zion National Park portions)

Juab

Millard

Morgan

Piute

Rich

Sevier

Sanpete

Summit

Uintah

Wasatch

Wayne (Does not include the Capitol Reef and Canyonlands National Parks portions)

* * * * *

[FR Doc. 2023-17374 Filed 8-14-23; 8:45 am]

BILLING CODE 6325-39-P